DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of July 13 through July 24, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Under Section 222(a)(2)(B), all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,178; Geo Specialty Chemical, Rubber and Plastics Division, Gibbstown, NJ: May 18, 2009.

TA-W-70,258; Toho Tenax America, Inc., Rockwood, TN: May 18, 2008.

TA-W-70,315A; Dodger Industries, Inc., Clinton, NC: May 18, 2008.

TA-W-70,315B; Dodger Industries, Inc., Fayetteville, NC: May 18, 2008.

TA-W-70,315C; Dodger Industries, Inc., Raleigh, NC: May 18, 2008.

TA-W-70,315; Dodger Industries, Inc., Eldora, IA: May 18, 2008.

TA-W-70,497; Victor Insulators, Inc., Victor, NY: May 21, 2008.

TA-W-70,522A; Advanced Accessory Systems, Shelby Township, MI: May 21, 2008.

TA-W-70,522B; Advanced Accessory Systems, Sterling Heights, MI: May 21, 2008.

TA-W-70,522; Advanced Accessory Systems, Port Huron, MI: May 21, 2008.

TA-W-70,704; Grote Industries, LLC, Madison, IN: May 19, 2008.

TA-W-71,152; Noble Metal Processing, Beacon Professional and RCM, South Haven, MI: June 10, 2008.

TA-W-71,182; R and B Fabrication, Inc., Oakwood, OH: June 10, 2008.

TA-W-71,644; Jeld-Wen Premium Doors, Doors Division, Oshkosh, WI: July 10, 2008.

TA-W-70,180K; Chicago Sun-Times, Chicago, IL: May 18, 2008.

TA-W-70,180L; Pioneer Press, Glenview, IL: May 18, 2008.

TA-W-70,180M; The Doings, Hinsdale, IL: May 18, 2008.

TA-W-70,180N; Post-Tribune, Merrillville, IN: May 18, 2008.

TA-W-70,180O; Fox Valley Productions, Plainfield, IL: May 18, 2008.

TA-W-70,180P; Aurora Beacon News, Aurora, IL: May 18, 2008.

TA-W-70,180Q; Waukegan News Sun, Waukegan, IL: May 18, 2008.

TA-W-70,180R; Sun Publications, Naperville, IL: May 18, 2008.

TA-W-70,180S; Joliet Herald News, Joliet, IL: May 18, 2008.

TA-W-70,180T; Midwest Suburvan Publishing, Tinley Park, IL: May 18, 2008.

TA-W-70,273; Plum Creek MDF, Inc., A Subsidiary of Plum Creek Timber Company, Inc., Columbia Falls, MT: May 19, 2008.

TA-W-70,096A; Auburn Mills, Inc., A/K/A Craftex Mills, Inc., Auburn, PA: May 18, 2008.

TA-W-70,096; Auburn Mills, Inc., A/K/A Craftex Mills, Inc., Montgomeryville, PA: May 18, 2008.

TA-W-70,220; BoMag Americas, Inc., A Subsidiary of BoMag GMBH, Kewanee, IL: May 18, 2008.

TA-W-70,681; Performance Fibers, Scottsboro, AL: May 26, 2008.

The following certifications have been issued. The requirements of Section 222(a)(2)(B) (shift in production or services) of the Trade Act have been met.

TA-W-70,020; TMD Friction, Inc., Executive Regional Management, Dublin, VA: May 18, 2008.

TA-W-70,053; Plexus Services Corp, Adecco, Nampa, ID: May 18, 2008.

TA-W-70,056; Tensolite, LLC, D/B/A Carlisle Company Interconnect Assemblies, Vancouver, WA: May 18, 2008.

TA-W-70,071; Indalex, Inc., Lincolnshire Corporate Office, Lincolnshire, IL: May 18, 2008.

TA-W-70,121; Banner Engineering Corp., Fergus Falls Manufacturing Facility, Leased Workers from Doherty Staffing, Fergus Falls, MN: May 18, 2008.

TA-W-70,148; W.Y. Shugart and Sons, Inc., Fort Payne, AL: May 18, 2008.

TA-W-70,193A; Robertson Airtech International, Inc., Gastonia, NC: May 18, 2008.

TA-W-70,193; Robertson Airtech International, Inc., Charlotte, NC: May 18, 2008.

TA-W-70,207; FLA Orthopedics, Inc., Leased Workers of the Reserves Network, Staff Masters, Miramar, FL: May 18, 2008.

TA-W-70,221; Wacker Polymers Corporation, Wacker Polymers Division, Dayton, NJ: May 18, 2008.

TA-W-70,222; Solutia, Inc., Saflex Division, Leased From Spherion, Trenton, MI: May 18, 2008.

TA-W-70,224; Therm-O-Disc, Inc., Emerson Electric, Muskegon, MI: May 18, 2008.

TA-W-70,225; Thin Film Technology, A Subsidiary of Susumu Co., LTD, North Mankato, MN: May 18, 2008.

TA-W-70,254; Moldingmaster, Appleone, Aerotek Adecco, Santa Fe Springs, CA: May 18, 2008.

TA-W-70,256; Fluidmaster Inc., Appleone, Aerotek, Adecco, San Juan Capistrano, CA: May 18, 2008.

TA-W-70,263; Sumitomo Electric Wiring Systems, Inc., A Subsidiary of Sumitomo Wiring Systems, LTD, Edmonton, KY: May 18, 2008.

TA-W-70,280; Hewlett-Packard Caribe, BV, LLC, On-Site Leased Workers of Synova, Volt, Manpower, and Kelly Services, Aguadilla, PR: May 18, 2008.

TA-W-70,313; Continental Automotive Systems US Inc., (Formerly Siemens AG), Elkhart, IN: December 20, 2008.

TA-W-70,460; Delphi Steering, On-Site Leased Workers from Bartech and Securitas, Saginaw, MI: May 20, 2008.

TA-W-70,498; Munksjo Paper, Inc., A Subsidiary of Munksjo AB, Fitchburg, MA: May 21, 2008.

TA-W-70,508; Honeywell Scanners and Mobility, A Subsidiary of Honeywell International, Blackwood, NJ: May 15, 2009.

TA-W-70,509; Jervis B. Webb Co., A Subsidiary of Daifuku Company, LTD, Carlisle, SC: May 20, 2008.

TA-W-70,510; The Timken Company, On-Site Leased Workers from Personnel Staffing Unlimited, Rutherfordton, NC: May 14, 2008.

TA-W-70,588; Yusa Corporation, On site Leased Workers from Remedy Intelligent Staffing, Washington Court House, OH: May 22, 2008.

TA-W-70,594; Peace Industries, Ltd., Onsite Leased Workers from Genie Temporary Staffing, Rolling Meadows, IL: May 22, 2008.

TA-W-70,603; Datwyler Rubber and Plastics, Inc., Marion, SC: May 19, 2008.

TA-W-70,624; Core Molding Technologies, Columbus, OH: May 20, 2008.

TA-W-70,811; Rockwell Automation, Manchester, NH: May 28, 2008.

TA-W-70,832; American Standard Brands, Crane Plastic, A Subsidiary of AS America, Mansfield, OH: June 1, 2008.

TA-W-70,836; Anderson Products Inc., A Subsidiary of Weiler Corp., Worcester, MA: June 1, 2008.

TA-W-70,876; Chromalox, Corp Office/Headquarters, Office Team, Accounttemps, Pittsburgh, PA: May 28, 2008.

TA-W-70,899; Agfa HealthCare, Inc., Research and Development, Hartland, WI: June 1, 2008.

TA-W-70,954; SNC Manufacturing Company, Inc, Oshkosh, WI: May 27, 2008.

TA-W-70,957; Focus Products Group, LLC, St. Louis, MO: June 2, 2008.

TA-W-71,053; Electrolux Home Products, Inc, Electrolux Major Appliances Division, Subsidiary of Electrolux Holdings INC, Jefferson, IA: June 5, 2008.

TA-W-71,120; Atlas Copco Comptec, LLC, Gas and Process Division, Atlas Corpo North America, Voorheesville, NY: June 3, 2008.

TA-W-71,194; Delphi Rochester Operations, Delphi Powertrain Division, Leased workers From Bartech, Rochester, NY: June 9, 2009.

TA-W-71,202; Sappi Fine Paper N.A., A Subsidiary of Sappi LTD., On-Site Leased Workers from ABB, Muskegon, MI: June 12, 2008.

71265; Numatics, Inc, Emerson Electric Company, Lapeer, MI: June 10, 2008.

TA-W-71,289; Shadowline, Inc., Morganton, NC: June 8, 2009.

TA-W-71,309; Komatsu Forklift USA, LLC, Spherion, Randstad, TSI Future, Staffmark, Resource, Covington, GA: June 15, 2008.

TA-W-71,640; Albany International, Process Belts, Tumwater, WA: July 10, 2008.

TA-W-70,061; Castleford Tailors, Ltd, Burberry Wholesale Ltd., Burberry Ltd. (USA), Williamstown, NJ: May 18, 2008.

TA-W-70,463A; Zebra Technologies, Inc, Specialty Printer Group, Camarillo, CA: May 19, 2008.

TA-W-70,463; Zebra Technologies, Inc, Specialty Printer Group, Leased Workers of Appleone Employment, Vernon Hills, IL: May 19, 2008.

TA-W-70,658; Adams USA, Inc, Monterey Division, Cookeville, TN: May 26, 2008.

TA-W-70,694; Avaya, Inc., Manufacturing, Procurement and Logistics Division, Leased Workers From Kelly, Westminster, CO: May 26, 2011.

TA-W-70,911; R. H. Donnelley, Inc., Dunmore, PA: May 18, 2008.

TA-W-71,137; Bowne of Detroit, Subsidiary of Bowne & Company, Inc., Detroit, MI: June 9, 2008.

TA-W-71,500; Datamax—O'Neil Corporation, On-Site Leased Workers of Kimco and Staffsource, Irvine, CA: June 23, 2008.

TA-W-70,048; Symantec Corporation, Symantec Accounts Payable/Expense Reporting Team, Finance Dept., Springfield, OR: May 18, 2008.

TA-W-70,244; Align Technology, Inc., Sales Department, Marketing, Finance and Accounting, Santa Clara, CA: May 18, 2008.

TA-W-70,332; LexisNexis, Global Operations, Randstand, Certified Employment, San Francisco, CA: May 18, 2008.

TA-W-70,534; Jones Distribution Center, On-Site Leased Workers from Wise Staffing Group, Lawrenceburg, TN: May 21, 2008.

TA-W-70,768; Steelcase University, A Subsidiary of Steelcase, Inc., Grand Rapids, I: May 27, 2008.

TA-W-70,897; Nortel Networks, CNM and Tools Release Division and Network, Richardson, TX: May 21, 2008.

TA-W-70,180A; Pioneer Press, Glenview, IL: May 18, 2008.

TA-W-70,180B; The Doings, Hinsdale, IL: May 18, 2008.

TA-W-70,180C; Post-Tribune, Merrillville, IN: May 18, 2008.

TA-W-70,180D; Fox Valley Productions, Plainfield, IL: May 18, 2008.

TA-W-70,180E; Aurora Beacon News, Aurora, IL: May 18, 2008.

TA-W-70,180F; Elgin Courier, Elgin, IL: May 18, 2008.

TA-W-70,180G; Waukegan News Sun, Waukegan, IL: May 18, 2008.

TA-W-70,180H; Sun Publications, Naperville, IL: May 18, 2008.

TA-W-70,180I; Joliet Herald News, Joliet, IL: May 18, 2008.

TA-W-70,180J; Midwest Suburban Publishing, Tinley Park, IL: May 18, 2008.

TA-W-70,180; Chicago Sun-Times, Chicago, IL: May 18, 2008.

TA-W-70,796; Los Angeles Times Communications, Advertising Financial Services, Los Angeles, CA: May 27, 2009.

TA-W-70,945; GMAC Insurance, Winston Salem, NC: June 3, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-70,003; EFTEC North America, LLC, Dayton, OH: May 18, 2008.

TA-W-70,680; Performance Fibers, Winfield Division, Winfield, AL: May 26, 2008.

TA-W-70,746; Tightline Logging, Potomac, MT: May 19, 2008.

TA-W-71,184; John Maneely Company, Formerly Known as Sharon Tube Company, Sharon, PA: June 9, 2008.

The following certifications have been issued. The requirements of Section 222(c) (downstream producer for a firm whose workers are certified eligible to apply for TAA) of the Trade Act have been met.

TA-W-70,018; Auto Truck Transport USA, Inc., A Subsidiary of JHT Holdings, Inc., Mt. Holly, NC: May 18, 2008.

TA-W-70,134; Finish Line Hosiery, Inc., Fort Payne, AL: May 18, 2008.

The following certifications have been issued. The requirements of Section 222(f) (firms identified by the International Trade Commission) of the Trade Act have been met.

TA-W-70,164; Goodyear Tire & Rubber Co., Union City, TN: May 18, 2008.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-70,287; Straits Steel and Wire Company, Dallas, TX.

The investigation revealed that the criteria under paragraphs (a)(2)(A)(i) (decline in sales or production, or both) and (a)(2)(B) (shift in production or services to a foreign country) of section 222 have not been met.

None.

The investigation revealed that the criteria under paragraphs(a)(2)(A) (increased imports) and (a)(2)(B) (shift in production or services to a foreign country) of section 222 have not been met.

TA-W-70,089; Glenn Springs Holdings, Inc., New Castle, DE. TA-W-71,015; United Auto Workers Union, Local 10, Fenton, MO.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of July 13 through July 24, 2009. Copies of these determinations are available for inspection in Room N-5428, U.S. Department of Labor, 200 Constitution Avenue, NW., Washington, DC 20210 during normal business hours or will be mailed to persons who write to the above address.

Dated: August 24, 2009.
Linda G. Poole,
Certifying Officer, Division of Trade Adjustment Assistance.

[FR Doc. E9-21155 Filed 9-1-09; 8:45 am]

BILLING CODE 4510-FN-P